DEPARTMENT OF HOUSING AND URBAN DEVELOPMENT

[Docket No. FR-5300-C-23]

HUD's Fiscal Year (FY) 2009 NOFA for the HOPE VI Revitalization Grants Program; Technical Correction

AGENCY: Office of the Assistant Secretary for Public and Indian Housing, HUD.

ACTION: Notice; technical correction.

SUMMARY: On July 14, 2009, HUD posted its Notice of Funding Availability (NOFA) for the HOPE VI Revitalization Grants Program for Fiscal Year 2009. The technical corrections to the NOFA are available on the HUD Web site at http://www.hud.gov/hopevi and http://www.hud.gov/offices/adm/grants/nofa09/grphopevirevi.cfm, and on the Grants.gov Web site at http://www.grants.gov. The CFDA number for the HOPE VI Revitalization program is 14.866. The deadline for HOPE VI Revitalization grant applications under this NOFA remains unchanged (November 17, 2009).

FOR FURTHER INFORMATION CONTACT: For questions concerning these technical corrections, please contact Ms. Leigh van Rij, Office of Public Housing Investments, Office of Public and Indian Housing, Department of Housing and Urban Development, 451 Seventh Street, SW., Washington, DC 20410-5000; telephone (202) 402-5788 (this is not a toll-free number); e-mail leigh_e._van_rij@hud.gov. Persons with hearing or speech impairments may access these numbers via TTY by calling the Federal Information Relay Service at (800) 877-8339.

Dated: October 14, 2009.
Sandra B. Henriquez,
Assistant Secretary for Public and Indian Housing.

[FR Doc. E9-25219 Filed 10-20-09; 8:45 am]

BILLING CODE 4210-67-P